NATIONAL SCIENCE FOUNDATION

Privacy Act of 1974; Systems of Records

AGENCY: National Science Foundation.

ACTION: Notice of rescindment of two existing systems of records, the addition of one new system of records, the amendment of one agency-wide routine use, and amendment to eight existing systems of records.

SUMMARY: Pursuant to the Privacy Act of 1974 (5 U.S.C. 552a), the National Science Foundation (NSF) is providing public notice that it is rescinding two systems of records: NSF-3 Application and Account for Advance of Funds; and NSF-34 Integrated Time and Attendance System (ITAS). NSF is adding one new system of records: NSF-75 Early Career Doctorates Survey (ECDS). NSF is amending the agency-wide routine use number two titled Freedom of Information Act/Privacy Act Compliance. NSF is also making revisions to the text of eight existing systems of records: NSF-6, Doctorate Records Files (Survey of Earned Doctorates); NSF-13, Fellowship Payroll; NSF-43, Doctorate Work History Files (Survey of Doctorate Recipients); NSF-55, Debarment/Scientific Misconduct Files; NSF-57, NSF Delinquent Debtors' File; NSF-58, National Survey of Recent College Graduates and Follow-up Files; NSF-65, NSF Electronic Payment File; and NSF-67, Invention, Patent and Licensing Documents.

DATES: Persons wishing to comment on the changes set out in this notice may do so on or before July 20, 2016.

Effective Date: This action will be effective without further notice on July 20, 2016 unless modified by a subsequent notice to incorporate comments received from the public.

ADDRESSES: You may submit comments, identified by [docket number and/or RIN number ___], by any of the following methods:

• Federal eRulemaking Portal: http://www.regulations.gov. Follow the instructions for submitting comments.

• Agency Web site: https://www.nsf.gov/policies/privacy_act.jsp. Follow the instructions for submitting comments on the NSF Web site.

• Email: sevans@nsf.gov. Include [docket number and/or RIN number ____] in the subject line of the message.

• Fax: (703) 292-9242.

• Mail: Sandra Evans, Privacy Officer, Office of the General Counsel, National Science Foundation, 4201 Wilson Boulevard, Room 1265, Arlington, VA 22230.

• Hand Delivery/Courier: Office of the General Counsel, National Science Foundation, 4201 Wilson Boulevard, Room 1265, Arlington, VA 22230.

Instructions: NSF will post all comments on the NSF's Web site (https://www.nsf.gov/policies/privacy_act.jsp). All comments submitted in response to this Notice will become a matter of public record. Therefore, you should submit only information that you wish to make publicly available.

FOR FURTHER INFORMATION CONTACT: Privacy Officer, Office of the General Counsel, National Science Foundation, 4201 Wilson Boulevard, Room 1265, Arlington, VA 22230; or by telephone at 703-292-8060.

SUPPLEMENTARY INFORMATION:

I. Background

Two NSF systems of records are proposed for rescindment, NSF-3 Application and Account for Advance of Funds and NSF-34 Integrated Time and Attendance System (ITAS). NSF no longer uses these systems. All records that were contained in these systems have been moved to other existing systems or archived and/or destroyed consistent with applicable records schedules.

A new system of records, NSF-75 Early Career Doctorates Survey (ECDS) will contain records from a sample of individuals who earned their first doctorate within the past 10 years and are working in specific areas of employment. This information is collected from a new NSF survey, the ECDS.

The NSF agency-wide routine use, titled Freedom of Information Act/Privacy Act Compliance is being amended to allow NSF to more easily share information with the Office of Government Information Services (OGIS) for FOIA compliance and mediation purposes.

Proposed changes to eight systems of records maintained by NSF, described in more detail below, will correct outdated information and references, update routine uses, and in two instances update the names of the systems to better reflect the records contained in those systems. All revised system notices are reprinted in their entirety.

NSF-6: Doctorate Records Files (Survey of Earned Doctorates) contains records about persons who have received research doctorates from U.S. institutions since 1920 and who have filled out the Survey of Earned Doctorates questionnaire that is created and maintained by NSF. The proposed changes to this system include amending the system name to reference the survey that is the source of records contained in the system; updating the categories of records in the system to reflect changes to the way social security number and salary information is collected; updating the description of existing routine uses to clarify how information is being used by NSF; and minor updates to language throughout the system to better inform the public as to how information is being stored and how records can be accessed. An amendment to this system notice was last published in the Federal Register on August 20, 2007, effective on September 30, 2007, 72 FR 46520-46521.

NSF-13: Fellowship Payroll contains records about fellows under certain NSF fellowship programs being paid directly by the government. The proposed changes to this system include updating and clarifying language in the system location, authority for maintaining the system, storage, and retrievability sections, as well as minor updates to other system sections, to better inform the public about access procedures and how information in the system is being used. An amendment to this system notice was last published in the Federal Register on August 20, 2007, effective on September 30, 2007, 72 FR 46520-46521.

NSF-43: Doctorate Work History Files (Survey of Doctorate Recipients) contains records about individuals holding a research doctoral degree in a science, engineering, or health field from a U.S. academic institution who have filled out the biennial Survey of Doctorate Recipients. The proposed changes to this system include amending the system name to better reflect reference the survey that is the source of records contained in the system; updating the categories of individuals covered by the system to more specifically identify who is covered; updating the categories of records in the system to reflect changes to the way social security numbers and demographic characteristics are collected; updating the description of existing routine uses to clarify how information is being used by NSF; and minor updates to remaining system sections to better inform the public as to how information is being stored and how records can be accessed. An amendment to this system notice was last published in the Federal Register on August 20, 2007, effective on September 30, 2007, 72 FR 46520-46521.

NSF-55: Debarment/Scientific Misconduct Files, contains records about persons considered for government-wide suspension, debarment, and/or research misconduct determinations. The proposed changes to this system include amending the system name to better reflect the type of records contained in the system, as well as, minor updates to all of the system sections to better inform the public about access procedures and how information in the system is being used. An amendment to this system notice was last published in the Federal Register on August 20, 2007, effective on September 30, 2007, 72 FR 46520-46521.

NSF-57: NSF Delinquent Debtors' File contains records about individuals who owe money to NSF. The proposed changes to this system include minor updates to the authority, routine uses, retrievability and record source system sections to better inform the public about access procedures and how information in the system is being used. An amendment to this system notice was last published in the Federal Register on August 20, 2007, effective on September 30, 2007, 72 FR 46520-46521.

NSF-58: National Survey of Recent College Graduates and Follow-up Files, contains records about individuals holding bachelor's and master's degrees from U.S. institutions in science, engineering, and health degree fields who have filled out the Survey of Recent College Graduates. The proposed changes to this system include updating the categories of individuals covered by the system to more specifically identify who is covered; updating the categories of records in the system to reflect changes to the way social security numbers and demographic characteristics are collected; updating the language in the purpose and routine uses sections to clarify how information is being used by NSF; and minor updates to remaining system sections to better inform the public as to how information is being stored and how records can be accessed. An amendment to this system notice was last published in the Federal Register on August 20, 2007, effective on September 30, 2007, 72 FR 46520-46521.

NSF-65, NSF Electronic Payment File contains records about individuals who receive electronic payment from NSF for goods or services. The proposed changes to this system include minor updates throughout the system sections to better inform the public about access procedures and how information in the system is being used. An amendment to this system notice was last published in the Federal Register on August 20, 2007, effective on September 30, 2007, 72 FR 46520-46521.

NSF-67, Invention, Patent and Licensing Documents contains records about invention disclosures, patents and patent applications, and licenses submitted to NSF by its employees, grantees and contractors. The proposed changes to this system include minor updates to all of the system sections to better inform the public about access procedures and how information in the system is being used. An amendment to this system notice was last published in the Federal Register on August 20, 2007, effective on September 30, 2007, 72 FR 46520-46521.

II. Privacy Act

The Privacy Act of 1974, as amended (5 U.S.C. 552a), embodies fair information practice principles in a statutory framework governing the means by which federal agencies collect, maintain, use, and disseminate individual's personal information. A “system of records” is a group of records under the control of an agency for which information is retrieved by the name of an individual or by some identifying number, symbol, or other identifying particular assigned to the individual. In the Privacy Act, an individual is defined as a U.S. citizen or lawful permanent resident. As a matter of policy, NSF extends administrative Privacy Act protections to all individuals. Individuals may request access to their own records that are maintained in a system of records in the possession or control of NSF by complying with NSF Privacy Act regulations, 45 CFR part 613.

The Privacy Act requires each agency to publish in the Federal Register a description denoting the type and character of each system of records that the agency maintains, the routine uses that are contained in each system in order to make agency record keeping practices transparent, to notify individuals regarding the uses of their records, and to assist individuals to find such records within the agency. Below are the complete texts of the NSF agency-wide routine uses and the following NSF systems: NSF-6, Doctorate Records Files (Survey of Earned Doctorates); NSF-13 Fellowship Payroll; NSF-43, Doctorate Work History Files (Survey of Doctorate Recipients); NSF-55, Debarment/Scientific Misconduct Files, proposed to be renamed as NSF-55, Suspension/Debarment/Research Misconduct Files; NSF-58: National Survey of Recent College Graduates and Follow-up Files, proposed to be renamed as NSF-58, National Survey of Recent College Graduates; NSF-67, Invention, Patent and Licensing Documents; and NSF-75, Early Career Doctorates Survey (ECDS).

In accordance with 5 U.S.C. 552a(r), NSF has provided a report of this system of records notice to the Office of Management and Budget; the Chairman, Senate Committee on Governmental Affairs; and the Chairman, House Committee on Government Reform and Oversight.

Dated: June 2, 2016.
Sandra Evans,
Privacy Act Officer, National Science Foundation.

Privacy Act Systems—Standard Routine Uses—National Science Foundation

The following standard routine uses apply, subject to the Privacy Act of 1974, except where otherwise noted, to each system of records maintained by the National Science Foundation:

1. Members of Congress. Information from a system may be disclosed to congressional offices in response to inquiries from the congressional offices made at the request of the individual to whom the record pertains.

2. Freedom of Information Act/Privacy Act Compliance. Information from a system may be disclosed to the Department of Justice or the Office of Management and Budget in order to obtain advice regarding NSF's obligations under the Freedom of Information Act and the Privacy Act. Information may also be provided to the National Archives and Records Administration (NARA) Office of Government Information Services (OGIS) for the following purposes: to allow OGIS to fulfill its responsibilities in 5 U.S.C. 552(h); to allow OGIS to review administrative agency policies, procedures and compliance with the Freedom of Information Act (FOIA); and to facilitate OGIS' offering of mediation services to resolve disputes between persons making FOIA requests and administrative agencies.

3. Counsel. Information from a system may be disclosed to NSF's legal representatives, including the Department of Justice and other outside counsel, where the agency is a party in litigation or has an interest in litigation, including when any of the following is a party to litigation or has an interest in such litigation: (a) NSF, or any component thereof; (b) any NSF employee in his or her official capacity; (c) any NSF employee in his or her individual capacity, where the Department of Justice has agreed to, or is considering a request to, represent the employee; or (d) the United States, where NSF determines that litigation is likely to affect the agency or any of its components.

4. National Archives, General Services Administration. Information from a system may be disclosed to representatives of the General Services Administration and the National Archives and Records Administration (NARA) during the course of records management inspections conducted under the authority of 44 U.S.C. 2904 and 2906.

5. Response to an Actual or Suspected Compromise or Breach of Personally Identifiable Information. Information from a system may be disclosed to appropriate agencies, entities, and persons when (a) NSF suspects or has confirmed that the security or confidentiality of information in the system of records has been compromised; (b) NSF has determined that as a result of the suspected or confirmed compromise there is a risk of harm to economic or property interests, identity theft or fraud, or harm to the security or integrity of this system or other systems or programs (whether maintained by NSF or another agency or entity) that rely upon the compromised information; and (c) the disclosure made to such agencies, entities, and persons is reasonably necessary to assist with NSF's efforts to respond to the suspected or confirmed compromise and prevent, minimize, or remedy such harm.

6. Courts. Information from a system may be disclosed to the Department of Justice or other agencies in the event of a pending court or formal administrative proceeding, when records are relevant to that proceeding, for the purpose of representing the government, or in the course of presenting evidence, or they may be produced to parties or counsel involved in the proceeding in the course of pre-trial discovery.

7. Contractors. Information from a system may be disclosed to contractors, agents, experts, consultants, or others performing work on a contract, service, cooperative agreement, job, or other activity for NSF and who have a need to access the information in the performance of their duties or activities for NSF.

8. Audit. Information from a system may be disclosed to government agencies and other entities authorized to perform audits, including financial and other audits, of the agency and its activities.

9. Law Enforcement. Information from a system may be disclosed to appropriate Federal, State, or local agencies responsible for investigating, prosecuting, enforcing, or implementing a statute, rule, regulation, or order, to disclose pertinent information when NSF becomes aware of an indication of a violation or potential violation of civil or criminal law or regulation.

10. Disclosure When Requesting Information. Information from a system may be disclosed to Federal, State, or local agencies which maintain civil, criminal, or other relevant enforcement information or other pertinent information, such as current licenses, if necessary, to obtain information relevant to an agency decision concerning the hiring or retention of an employee, the issuance of a security clearance, the letting of a contract, or the issuance of a license, grant, or other benefit.

11. To The News Media And The Public When: (1) A matter has become public knowledge, (2) the NSF Office of the Director determines that disclosure is necessary to preserve confidence in the integrity of NSF or is necessary to demonstrate the accountability of NSF's officers, employees, or individuals covered by this system, or (3) the Office of the Director determines that there exists a legitimate public interest in the disclosure of the information, except to the extent that the Office of the Director determines in any of these situations that disclosure of specific information in the context of a particular case would constitute an unwarranted invasion of personal privacy.

NSF-6

SYSTEM NAME:

Doctorate Records Files (Survey of Earned Doctorates).

SYSTEM LOCATION(S):

National Science Foundation (NSF) headquarters, Virginia, and NSF's current survey contractor location(s).

AUTHORITY FOR MAINTENANCE OF THE SYSTEM:

National Science Foundation Act of 1950, as amended, 42 U.S.C. 1862(a)(6), 1863(j)(1), 1885(d); and the America COMPETES Reauthorization Act of 2010.

PURPOSE(S):

This system is used:

(1) To provide a source of information, that will be used for statistical purposes only, on demographic characteristics, educational history, and employment plans of recipients of U.S. research doctorates, in compliance with NSF responsibilities to monitor scientific and technical resources.

(2) To provide indicators of the state of science and engineering enterprise in the United States, as required by congressional mandate.

(3) To report biennially on the participation rates of men, women, persons with disabilities, and race/ethnicity groups, in scientific and technical fields, as required by congressional mandate.

(4) To provide the sampling frame for the Survey of Doctorate Recipients.

CATEGORIES OF INDIVIDUALS COVERED BY THE SYSTEM:

Individuals who have earned research doctorates from accredited U.S. institutions since 1920. Limited information (name, field of degree and institution) about individuals receiving doctorates between 1920 and 1957 was compiled from public records. Information about individuals receiving doctoral degrees after 1957 was supplied voluntarily by the individual receiving the degree. Some institutions supply name and field of degree for individuals who do not provide any information.

CATEGORIES OF RECORDS IN THE SYSTEM:

Educational, professional and demographic characteristics of doctorate earners including name, birth date, gender, citizenship, race, ethnicity, education history, social security number (for individuals added after 2006, only the last four digits of the SSN are maintained), sources of financial support during graduate school, and post-graduation plans (since 2008, including the anticipated annual salary).

RECORD SOURCE CATEGORIES:

Information is obtained voluntarily from the individual; limited information may be provided by academic institutions.

ROUTINE USES OF RECORDS MAINTAINED IN THE SYSTEM, INCLUDING CATEGORIES OF USERS AND THE PURPOSES OF SUCH USES:

NSF standard routine uses apply to the extent that such disclosure is compatible with the National Science Foundation Act of 1950, the America COMPETES Reauthorization Act of 2010, and the Confidential Information Protection and Statistical Efficiency Act (CIPSEA). In addition, information may be disclosed to:

(1) License for the Use of Restricted Data (License) holders. Organizations (e.g. academic institutions, nonprofit organizations) and their researcher(s) granted a NSF/National Center for Science and Engineering Statistics (NCSES) License for the purpose of analyzing data and preparing scientific reports and articles. These Licensees receive data without direct personal identifiers.

(2) Federal agency sponsors. Records with personal identifiers may be disclosed to federal sponsors, their contractors and collaborating researchers and their staff under an Inter-Agency Agreement for the purpose of analyzing data, preparing scientific reports and articles, and for conducting review and evaluation of their programs.

(3) NCSES contractors. Records may be disclosed to NCSES contractors for statistical activities or purposes such as conducting surveys. Any NSF contractor who wishes to use restricted-use data for statistical activities or purposes that are not part of NCSES-sponsored work must follow the regular License procedures as laid out in routine use (1) above.

POLICIES AND PRACTICES FOR STORAGE OF RECORDS:

Records are stored in paper (short term) and on electronic digital media (long term).

POLICIES and PRACTICES FOR RETRIEVABILITY OF RECORDS:

Records are retrieved by individual name and unique, anonymous data collection identifier.

POLICIES AND PRACTICES FOR RETENTION AND DISPOSAL OF RECORDS:

Data are cumulative and are kept indefinitely.

PHYSICAL, PROCEDURAL, AND ADMINISTRATIVE SAFEGUARDS:

Records are protected by administrative, technical, and physical safeguards administered by NSF.

SYSTEM MANAGER(S):

Division Director, National Center for Science and Engineering Statistics, NSF headquarters, Virginia.

RECORD ACCESS PROCEDURES:

This system is exempt from this requirement pursuant to 5 U.S.C. 552a(k)(4).

CONTESTING RECORD PROCEDURES:

This system is exempt from this requirement pursuant to 5 U.S.C. 552a(k)(4).

NOTIFICATION PROCEDURE:

This system is exempt from this requirement pursuant to 5 U.S.C. 552a(k)(4).

EXEMPTIONS PROMULGATED FOR THE SYSTEM:

The portions of this system consisting of statistical records have been exempted from provisions of 5 U.S.C. 552a(c)(3); (d); (e)(1); (e)(4)(G), (H), (I), and (f), pursuant to 5 U.S.C. 552a(k)(4).

NSF-13

SYSTEM NAME:

Fellowship Payroll.

SYSTEM LOCATION(S):

National Science Foundation (NSF) headquarters, Virginia.

AUTHORITY FOR MAINTENANCE OF THE SYSTEM:

42 U.S.C. 1861; Department of the Treasury Financial Manual; GAO Policy and Procedures Manual for Guidance of Federal Agencies, Title 6—Pay, Leave and Allowances.

PURPOSE(S):

This system enables the NSF to maintain data regarding the payment of fellowship payroll in a single location and ensures that appropriate payments are made.

CATEGORIES OF INDIVIDUALS COVERED BY THE SYSTEM:

Individuals participating in certain NSF Fellowship Programs being paid directly by the federal government (Fellows).

CATEGORIES OF RECORDS IN THE SYSTEM:

Copies of the fellowship award letter, acceptance form, starting certificates, and records of stipend payments.

RECORD SOURCE CATEGORIES:

Information is obtained from Fellows.

ROUTINE USES OF RECORDS MAINTAINED IN THE SYSTEM, INCLUDING CATEGORIES OF USERS AND THE PURPOSES OF SUCH USES:

NSF standard routine uses apply. In addition, information may be disclosed to:

(1) The Department of Treasury for the purpose of issuing the payment directly to the financial account of the payee.

(2) Financial institutions for the purpose of direct deposit.

POLICIES AND PRACTICES FOR STORAGE OF RECORDS:

Records are stored in paper and/or on electronic digital media.

POLICIES and PRACTICES FOR RETRIEVABILITY OF RECORDS:

Records are retrieved alphabetically by last name of Fellow, supplier number, or award number.

POLICIES AND PRACTICES FOR RETENTION AND DISPOSAL OF RECORDS:

Records are maintained and disposed of in accordance with NAPA approved records schedules.

PHYSICAL, PROCEDURAL, AND ADMINISTRATIVE SAFEGUARDS:

Records are protected by administrative, technical, and physical safeguards administered by NSF.

SYSTEM MANAGER(S):

Division Director, Division of Financial Management, NSF headquarters, Virginia.

RECORD ACCESS PROCEDURES:

Follow the Requesting Access to Records procedures found at 45 CFR part 613.

CONTESTING RECORD PROCEDURES:

Follow the procedures found at 45 CFR part 613.

NOTIFICATION PROCEDURE:

Follow the Requesting Access to Records procedures found at 45 CFR part 613.

EXEMPTIONS PROMULGATED FOR THE SYSTEM:

None.

NSF-43

SYSTEM NAME:

Survey of Doctorate Recipients.

SYSTEM LOCATION(S):

National Science Foundation (NSF) headquarters, Virginia, and NSF's current survey contractor location(s).

AUTHORITY FOR MAINTENANCE OF THE SYSTEM:

National Science Foundation Act of 1950, as amended, 42 U.S.C. 1862(a)(6), 1863(j)(1), 1885(d); the America COMPETES Reauthorization Act of 2010; and the Confidential Information Protection and Statistical Efficiency Act of 2002 (CIPSEA).

PURPOSE(S):

This system is used:

(1) To provide a source of information, that will be used for statistical purposes only, on demographic characteristics of individuals with doctorate degrees in science, engineering, or selected health (SEE) fields in the U.S., in compliance with NSF responsibilities to monitor scientific and technical resources.

(2) To provide indicators of the state of science and engineering enterprise in the U.S., as required by congressional mandate.

(3) To report biennially on the participation rates of men, women, persons with disabilities, and race/ethnicity groups, in scientific and technical fields, as required by congressional mandate.

(4) To provide data on doctorate holders in the SEH workforce to the Scientists and Engineers Statistical Data System (SESTAT) maintained by NSF.

CATEGORIES OF INDIVIDUALS COVERED BY THE SYSTEM:

A sample of individuals holding a research doctoral degree in a SEH field from a U.S. academic institution. The information is collected from individuals in the biennial Survey of Doctorate Recipients (SDR). The survey follows a sample of individuals with SEH doctorates throughout their careers from the year of their degree award until age 76.

CATEGORIES OF RECORDS IN THE SYSTEM:

Educational, professional and demographic characteristics of doctorate holders including name, birth date, gender, citizenship, race, ethnicity, education history, social security number (for individuals added after 2006, only the last four digits of the SSN are maintained), geographic locations, earned degrees, field of degree, employment status, occupation, type of employer, primary work activity, and salary.

RECORD SOURCE CATEGORIES:

Information is obtained voluntarily from the individual.

ROUTINE USES OF RECORDS MAINTAINED IN THE SYSTEM, INCLUDING CATEGORIES OF USERS AND THE PURPOSES OF SUCH USES:

NSF standard routine uses apply to the extent that such disclosure is compatible with the National Science Foundation Act of 1950, the America COMPETES Reauthorization Act of 2010, and CIPSEA. In addition, information may be disclosed to:

(1) License for the Use of Restricted Data (License) holders. Organizations (e.g. academic institutions, nonprofit organizations) and their researcher(s) granted an NSF/National Center for Science and Engineering Statistics (NOSES) License for the purpose of analyzing data and preparing scientific reports and articles. These Licensees receive data without direct personal identifiers.

(2) Federal agency sponsors. Records with personal identifiers may be disclosed to federal sponsors, their contractors and collaborating researchers and their staff under an Inter-Agency Agreement for the purpose of analyzing data, preparing scientific reports and articles, and for conducting review and evaluation of their programs.

(3) NCSES contractors. Records may be disclosed to NCSES contractors for statistical activities or purposes such as conducting surveys. Any NSF contractor who wishes to use restricted-use data for statistical activities or purposes that are not part of NCSES-sponsored work must follow the regular License procedures as laid out in routine use (1) above.

POLICIES AND PRACTICES FOR STORAGE OF RECORDS:

Records are stored in paper and/or on electronic digital media.

POLICIES and PRACTICES FOR RETRIEVABILITY OF RECORDS:

Records are retrieved by the name of individual and unique, anonymous data collection identifier.

POLICIES AND PRACTICES FOR RETENTION AND DISPOSAL OF RECORDS:

Data are cumulative and are kept indefinitely.

PHYSICAL, PROCEDURAL, AND ADMINISTRATIVE SAFEGUARDS:

Records are protected by administrative, technical, and physical safeguards administered by NSF.

SYSTEM MANAGER(S):

Division Director, National Center for Science and Engineering Statistics, NSF headquarters, Virginia.

RECORD ACCESS PROCEDURES:

This system is exempt from this requirement pursuant to 5 U.S.C. 552a(k)(4).

CONTESTING RECORD PROCEDURES:

This system is exempt from this requirement pursuant to 5 U.S.C. 552a(k)(4).

NOTIFICATION PROCEDURE:

This system is exempt from this requirement pursuant to 5 U.S.C. 552a(k)(4).

EXEMPTIONS PROMULGATED FOR THE SYSTEM:

The portions of this system consisting of statistical records have been exempted from provisions of 5 U.S.C. 552a(c)(3); (d); (e)(1); (e)(4)(G), (H), (I), and (f), pursuant to 5 U.S.C. 552a(k)(4).

NSF-55

SYSTEM NAME:

Suspension, Debarment, and Research Misconduct Files.

SYSTEM LOCATION:

National Science Foundation (NSF) headquarters, Virginia.

AUTHORITY FOR MAINTENANCE OF THE SYSTEM:

Section 11(a), National Science Foundation Act of 1950, as amended, 42 U.S.C. 1870(a); Federal Acquisition Regulation (FAR), 2 CFR 180.800; 45 CFR part 689; and E.O. 12549 (February 18, 1986).

PURPOSE(S):

To Information contained in this system of records is used to protect the federal government from the actions prohibited under applicable suspension, debarment, and research misconduct regulations; make decisions regarding suspension, debarment, and research misconduct; ensure that other federal agencies give effect to suspension, debarment, and research misconduct decisions rendered by NSF; and to ensure that NSF gives effect to suspension, debarment, and research misconduct decisions rendered by other Federal agencies.

CATEGORIES OF INDIVIDUALS COVERED BY THE SYSTEM:

Persons, including applicants for NSF grants and contracts, NSF grantees, contractors, and principal investigators, who are the subject of suspension, debarment, or research misconduct proceedings.

CATEGORIES OF RECORDS IN THE SYSTEM:

Case files for persons considered for suspension, debarment or research misconduct; communications between the NSF and the respondent; inter-agency and intra-agency communications regarding proposed or completed suspensions, debarments, or research misconduct; investigative files; witness statements and affidavits; staff working papers; testimony transcripts; hearing exhibits; and records of any findings.

RECORD SOURCE CATEGORIES:

Federal, state, and local agency officials; the NSF Office of the Inspector General; private persons; and respondents and their legal representatives.

ROUTINE USES OF RECORDS MAINTAINED IN THE SYSTEM, INCLUDING CATEGORIES OF USERS AND THE PURPOSES OF SUCH USES:

NSF standard routine uses apply. In addition, information may be disclosed to:

(1) The General Services Administration (GSA) to compile and maintain the System for Award Management.

(2) A federal agency involved in suspension, debarment or research misconduct actions involving the same person.

(3) A federal, state, or local government agency to the extent necessary to allow NSF to obtain information maintained by those agencies in connection with a suspension, debarment, or research misconduct action.

(4) Other persons involved in or affected by a suspension, debarment, or research misconduct actions, including witnesses, awardee institutions, to support NSF objectives.

(5) A federal, state, local government agency, federal contractor, or grantee, for the purpose of verifying the identity of an individual NSF has suspended, debarred, or imposed actions upon pursuant to an administrative agreement or research misconduct determination.

POLICIES AND PRACTICES FOR STORAGE OF RECORDS:

Records are stored in paper and/or on electronic digital media.

POLICIES AND PRACTICES FOR RETRIEVABILITY OF RECORDS:

Records are retrieved by the name of the person and/or entity being considered for suspension, debarment, or a finding of research misconduct.

POLICIES AND PRACTICES FOR RETENTION AND DISPOSAL OF RECORDS:

Records are maintained and disposed of in accordance with NARA approved record schedules.

PHYSICAL, PROCEDURAL AND ADMINISTRATIVE SAFEGUARDS:

Records are protected by administrative, technical, and physical safeguards administered by NSF.

SYSTEM MANAGER(S):

General Counsel, Office of General Counsel, NSF headquarters, Virginia.

RECORD ACCESS PROCEDURES:

Follow the Requesting Access to Records procedures found at 45 CFR part 613.

CONTESTING RECORD PROCEDURES:

Follow the procedures found at 45 CFR part 613.

NOTIFICATION PROCEDURE:

Follow the Requesting Access to Records procedures found at 45 CFR part 613.

EXEMPTIONS PROMULGATED FOR THE SYSTEM:

In accordance with 5 U.S.C. 552a(k)(2), investigative material in this system of records compiled for law enforcement purposes is exempt from subsections (c)(3), (d), (e)(1), (e)(4)(G), (H) and (I), and (f) of 5 U.S.C. 552a, provided, however, that if any individual is denied any right, privilege, or benefit that he or she would otherwise be entitled to by federal law, or for which he or she would otherwise be eligible, as a result of the maintenance of these records, such material shall be provided to the individual, except to the extent that the disclosure of the material would reveal the identity of a source who furnished information to the government with an express promise that the identity of the source would be held in confidence.

NSF-57

SYSTEM NAME:

NSF Delinquent Debtors' File.

SYSTEM LOCATION:

Division of Financial Management, Financial Statements Section, National Science Foundation (NSF) headquarters, Virginia.

AUTHORITY FOR MAINTENANCE OF THE SYSTEM:

Federal Claims Collection Act of 1966, Public Law 89-508; Debt Collection Act of 1996, Public Law 104-134; and E.O. 9397.

PURPOSE(S):

Information is used for the purpose of collecting moneys owed NSF arising out of any administrative or program activities or service administered by NSF. The file represents the basis for the debt and amount of debt and actions taken by NSF to collect the moneys owed under the debt. The credit report or financial statement provides an understanding of the individual's financial condition with respect to requests for deferments of payment.

CATEGORIES OF INDIVIDUALS COVERED BY THE SYSTEM:

Employees and former employees of NSF, panelists, recipients of fellowship stipends, and others owing money to NSF.

CATEGORIES OF RECORDS IN THE SYSTEM:

Information varies depending on individual debtor. Normally, the name, social security number, address, amount of debt or delinquent amount, basis of the debt, office referring debts, agency collection efforts, credit reports, debt collection letters, correspondence to or from the debtor relating to the debt and correspondence with employing agencies of debtors.

RECORD SOURCE CATEGORIES:

Information in this system of records obtained from the individual, institution, award records, collection agencies, and other appropriate agencies, i.e., the Internal Revenue Service (IRS), the Government Accountability Office (GAO), the United States Postal Service (USPS), the Department of the Treasury, etc.

ROUTINE USES OF RECORDS MAINTAINED IN THE SYSTEM, INCLUDING CATEGORIES OF USERS AND THE PURPOSES OF SUCH USES:

NSF standard routine uses apply. In addition, information may be disclosed to:

(1) GAO, the Department of Justice, the U.S. Attorney, or other federal agencies for further collection action on any delinquent account when circumstances warrant.

(2) A commercial credit reporting agency for the purpose of either adding to a credit history file or obtaining a credit history file for use in the administration of debt collection.

(3) A debt collection agency for the purpose of collection services to recover indebtedness owed to NSF.

(4) Debtor's name, social security number, the amount of debt owed, and the history of the debt may be disclosed to any Federal agency where the individual debtor is employed or receiving some form of remuneration for the purpose of enabling that agency to collect debts on NSF's behalf by administrative or salary offset procedures under the provisions of the Debt Collection Act of 1996.

(5) Any other federal agency including but limited to, the IRS pursuant to 31 U.S.C. 3720A, and the Department of the Treasury Debt Management Services, for the purpose of effecting an administrative offset against the debtor of a delinquent debt owed to NSF by the debtor.

(6) The IRS, to obtain the mailing address of a taxpayer for the purpose of locating such taxpayer to collect or to compromise a Federal claim by NSF against the taxpayer pursuant to 26 U.S.C. 6103(m)(20) and in accordance with 31 U.S.C. 3711, 3217, and 3718.

Note: Disclosure of a mailing address from the IRS may be made only for the purpose of debt collection, including to a debt collection agency in order to facilitate the collection or compromise of a federal claim under the Debt Collection Act of 1996, except that a mailing address to a consumer reporting agency is for the limited purpose of obtaining a commercial credit report on the particular taxpayer. Any such address information obtained from the IRS will not be used or shared for any other NSF purpose or disclosed to another federal, state, or local agency, which seeks to locate the same individual for its own debt collection purpose.

(7) Database information consisting of debtor's name, social security number, and amount owed may be disclosed to the Defense Manpower Data Center (DMDC). Department of Defense, USPS, or to any other federal state, or local agency for the purpose of conducting an authorized computer matching program in compliance with the Privacy Act of 1974, 5 U.S.C. 552a, as amended, to identify and locate delinquent debtors in order to start a recoupment process on an individual basis of any debt owed NSF by the debtor arising out of any administrative or program activities or services administered by NSF.

POLICIES AND PRACTICES FOR STORAGE OF RECORDS:

Records are stored in paper and/or on electronic digital media.

POLICIES AND PRACTICES FOR RETRIEVABILITY OF RECORDS:

Records are retrieved by the Principal Investigator's name or identification number, or by proposal number.

POLICIES AND PRACTICES FOR RETENTION AND DISPOSAL OF RECORDS:

Records are maintained and disposed of in accordance with NARA approved record schedules.

PHYSICAL, PROCEDURAL, AND ADMINISTRATIVE SAFEGUARDS:

Records are protected by administrative, technical, and physical safeguards administered by NSF.

SYSTEM MANAGER(S):

Director/Head or designee of particular Division or Office maintaining such records, NSF headquarters, Virginia.

RECORD ACCESS PROCEDURES:

Follow the Requesting Access to Records procedures found at 45 CFR part 613.

CONTESTING RECORD PROCEDURES:

Follow the procedures found at 45 CFR part 613.

NOTIFICATION PROCEDURE:

Follow the Requesting Access to Records procedures found at 45 CFR part 613.

EXEMPTIONS PROMULGATED FOR THE SYSTEM:

The portions of this system consisting of data that would identify reviewers or other persons supplying evaluations of NSF proposals have been exempted at 45 CFR part 613, pursuant to 5 U.S.C. 552a(k)(4).

NSF-58

SYSTEM NAME:

National Survey of Recent College Graduates.

SYSTEM LOCATION(S):

National Science Foundation (NSF) headquarters, Virginia, and NSF's current survey contractor location(s).

AUTHORITY FOR MAINTENANCE OF THE SYSTEM:

National Science Foundation Act of 1950, as amended, 42 U.S.C. 1862(a)(6), 1863(j)(1), 1885(d); the America COMPETES Reauthorization Act of 2010; and the Confidential Information Protection and Statistical Efficiency Act of 2002 (CIPSEA).

PURPOSE(S):

This system is used:

(1) To provide a source of information, that will be used for statistical purposes only, on demographic characteristics of individuals with bachelor's and master's degrees in science, engineering, and health fields (SEH) in the U.S., in compliance with NSF responsibilities to monitor scientific and technical resources.

(2) To provide indicators of the state of science and engineering enterprise in the U.S., as required by congressional mandate.

(3) To report biennially on the participation rates of men, women, persons with disabilities, and race/ethnicity groups, in scientific and technical fields, as required by congressional mandate.

(4) To provide data on recent bachelor's and master's degree recipients in the SEE workforce to the Scientists and Engineers Statistical Data System (SESTAT) maintained by NSF.

CATEGORIES OF INDIVIDUALS COVERED BY THE SYSTEM:

A sample of individuals holding a bachelor's and master's degrees from U.S. institutions in SEE fields.

CATEGORIES OF RECORDS IN THE SYSTEM:

Educational, professional and demographic characteristics of bachelor's and master's degree holders including name, address, birth date, race, ethnicity, gender, disability, country of birth, social security number (for individuals added after 2006, only the last four digits of the SSN are maintained), occupational information, employment status, professional activities, academic degrees, earlier education, continuing education, marital status, spouse's employment status, number and ages of children living at home, parent's educational attainment, and citizenship.

RECORD SOURCE CATEGORIES:

Information is obtained voluntarily from the individual.

ROUTINE USES OF RECORDS MAINTAINED IN THE SYSTEM, INCLUDING CATEGORIES OF USERS AND THE PURPOSES OF SUCH USES:

NSF standard routine uses apply to the extent that such disclosure is compatible with the National Science Foundation Act of 1950, the America COMPETES Reauthorization Act of 2010, and CIPSEA. In addition, information may be disclosed to:

(1) License for the Use of Restricted Data (License) holders. Organizations (e.g. academic institutions, nonprofit organizations) and their researcher(s) granted an NSF/National Center for Science and Engineering Statistics (NCSES) License for the purpose of analyzing data and preparing scientific reports and articles. These Licensees receive data without direct personal identifiers.

(2) NCSES contractors. Records may be disclosed to NCSES contractors for statistical activities or purposes such as conducting surveys. Any NSF contractor who wishes to use restricted-use data for statistical activities or purposes that are not part of NCSES-sponsored work must follow the regular License procedures as laid out in routine use (1) above.

POLICIES AND PRACTICES FOR STORAGE OF RECORDS:

Records are stored in paper and/or on electronic digital media.

POLICIES and PRACTICES FOR RETRIEVABILITY OF RECORDS:

Records are retrieved by the name of individual and unique, anonymous data collection identifier.

POLICIES AND PRACTICES FOR RETENTION AND DISPOSAL OF RECORDS:

Data are cumulative and are kept indefinitely.

PHYSICAL, PROCEDURAL, AND ADMINISTRATIVE SAFEGUARDS:

Records are protected by administrative, technical, and physical safeguards administered by NSF.

SYSTEM MANAGER(S):

Division Director, National Center for Science and Engineering Statistics, NSF headquarters, Virginia.

RECORD ACCESS PROCEDURES:

This system is exempt from this requirement pursuant to 5 U.S.C. 552a(k)(4).

CONTESTING RECORD PROCEDURES:

This system is exempt from this requirement pursuant to 5 U.S.C. 552a(k)(4).

NOTIFICATION PROCEDURE:

This system is exempt from this requirement pursuant to 5 U.S.C. 552a(k)(4).

EXEMPTIONS PROMULGATED FOR THE SYSTEM:

The portions of this system consisting of statistical records have been exempted from provisions of 5 U.S.C. 552a(c)(3); (d); (e)(1); (e)(4)(G), (H), (I), and (f), pursuant to 5 U.S.C. 552a(k)(4).

NSF-65

SYSTEM NAME:

NSF Electronic Payment File.

SYSTEM LOCATION:

Division of Financial Management, National Science Foundation (NSF) headquarters, Virginia.

AUTHORITY FOR MAINTENANCE OF THE SYSTEM:

The Debt Collection Improvement Act of 1996.

PURPOSE(S):

To enable NSF to comply with the mandatory electronic payment provisions of the Debt Collection Act of 1996.

CATEGORIES OF INDIVIDUALS COVERED BY THE SYSTEM:

Employees of NSF, former employees, other individuals and vendors who will or do receive electronic payment from NSF for goods and services.

CATEGORIES OF RECORDS IN THE SYSTEM:

Name, address, Social Security Number, and payee banking information.

RECORD SOURCE CATEGORIES:

Information is obtained from individuals or payees.

ROUTINE USES OF RECORDS MAINTAINED IN THE SYSTEM, INCLUDING CATEGORIES OF USERS AND THE PURPOSES OF SUCH USES:

NSF standard routine uses apply. In addition, information may be disclosed to:

(1) The Department of the Treasury for the purpose of issuing the payment directly to the financial account of the payee, and reporting income paid in accordance with reporting requirements.

(2) Financial institutions for the purpose of direct deposit.

POLICIES AND PRACTICES FOR STORAGE OF RECORDS:

Records are stored on electronic digital media.

POLICIES AND PRACTICES FOR RETRIEVABILITY OF RECORDS:

Records are retrieved by supplier number.

POLICIES AND PRACTICES FOR RETENTION AND DISPOSAL OF RECORDS:

Updated information automatically replaces old information. The file is cumulative and maintained permanently.

PHYSICAL, PROCEDURAL, AND ADMINISTRATIVE SAFEGUARDS:

Records are protected by administrative, technical, and physical safeguards administered by NSF.

SYSTEM MANAGER(S):

Director, Division of Financial Management, NSF headquarters, Virginia.

RECORD ACCESS PROCEDURES:

Follow the Requesting Access to Records procedures found at 45 CFR part 613.

CONTESTING RECORD PROCEDURES:

Follow the procedures found at 45 CFR part 613.

NOTIFICATION PROCEDURE:

Follow the Requesting Access to Records procedures found at 45 CFR part 613.

EXEMPTIONS PROMULGATED FOR THE SYSTEM:

None.

NSF-67

SYSTEM NAME:

Invention, Patent and Licensing Documents.

SYSTEM LOCATION:

Office of the General Counsel, National Science Foundation (NSF) headquarters, Virginia.

AUTHORITY FOR MAINTENANCE OF THE SYSTEM:

35 U.S.C. 200, et seq.; E.O. 10096, as amended; 37 CFR part 401; and 37 CFR part 501.

PURPOSE(S):

To administer governmental rights to inventions made by NSF employees or during NSF-assisted research.

CATEGORIES OF INDIVIDUALS COVERED BY THE SYSTEM:

Employees of NSF, its grantees, or contractors, who made inventions while employed by NSF while performing NSF-assisted research.

CATEGORIES OF RECORDS IN THE SYSTEM:

The system contains invention disclosures, patents and patent applications, and licenses submitted to NSF by its employees, grantees, and contractors, including inventor(s) name(s), identification of grantee or contractor, title and description of the invention, inventor(s) address(es), and patent prosecution and licensing document in situations where the inventor's rights were waived.

RECORD SOURCE CATEGORIES:

Record sources are Principal Investigators, academic or other applicant institutions, proposal reviewers, and NSF program officials.

ROUTINE USES OF RECORDS MAINTAINED IN THE SYSTEM, INCLUDING CATEGORIES OF USERS AND THE PURPOSES OF SUCH USES:

NSF standard routine uses apply. In addition, information may be disclosed to:

(1) Scientific personnel, both in NSF and other government agencies and in non-governmental organizations such as universities, who possess the expertise to understand the invention and evaluate its importance as a scientific advance.

(2) Contract patent counsel and their employees and foreign contract personnel retained by NSF for patent searching and prosecution in both the United States and foreign patent offices.

(3) Federal agencies whom NSF contacts regarding the possible use, interest in, or ownership rights in NSF inventions.

(4) Prospective licensees or technology finders who may further make the invention available to the public through sale or use.

(5) Parties, such as supervisors of inventors, whom NSF contacts to determine ownership rights, and those parties contacting NSF to determine the Government's ownership.

(6) United States and foreign patent offices involved in the filing of NSF patent applications.

POLICIES AND PRACTICES FOR STORAGE OF RECORDS:

Records are stored in paper and/or on electronic digital media.

POLICIES AND PRACTICES FOR RETRIEVABILITY OF RECORDS:

Records are retrieved by the name of the inventor, invention-disclosure number, NSF program, or institution.

POLICIES AND PRACTICES FOR RETENTION AND DISPOSAL OF RECORDS:

Records are maintained and disposed of in accordance with NARA approved record schedules.

PHYSICAL, PROCEDURAL, AND ADMINISTRATIVE SAFEGUARDS:

Records are protected by administrative, technical, and physical safeguards administered by NSF.

SYSTEM MANAGER(S):

General Counsel, Office of the General Counsel, NSF headquarters, Virginia.

RECORD ACCESS PROCEDURES:

Follow the Requesting Access to Records procedures found at 45 CFR part 613.

CONTESTING RECORD PROCEDURES:

Follow the procedures found at 45 CFR part 613.

NOTIFICATION PROCEDURE:

Follow the Requesting Access to Records procedures found at 45 CFR part 613.

EXEMPTIONS PROMULGATED FOR THE SYSTEM:

None.

NSF-75

SYSTEM NAME:

Early Career Doctorates Survey (ECDS)

SYSTEM LOCATION(S):

National Science Foundation (NSF) headquarters, Virginia, and NSF's current survey contractor location(s).

AUTHORITY FOR MAINTENANCE OF THE SYSTEM:

National Science Foundation Act of 1950, as amended, 42 U.S.C. 1862(a)(6), 1863(j)(1), 1885(d); the America COMPETES Reauthorization Act of 2010; and the Confidential Information Protection and Statistical Efficiency Act of 2002 (CIPSEA).

PURPOSE(S):

This system is used:

(1) To provide a source of information, that will be used for statistical purposes only, on demographic characteristics of individuals who received their first doctorate or doctorate-equivalent degrees within the past 10 years, regardless of the country of degree.

(2) To provide indicators of the state of science and engineering enterprise in the U.S., as required by congressional mandate.

(3) To report biennially on the participation rates of men, women, persons with disabilities, and race/ethnicity groups, in scientific and technical fields, as required by congressional mandate.

CATEGORIES OF INDIVIDUALS COVERED BY THE SYSTEM:

A sample of individuals who earned their first doctorate within the past 10 years and are working in one of the following areas of employment: U.S. academic institutions, federally funded research and development centers (FFRDCs), or the National Institutes of Health intramural research programs (NIH IRPs).

CATEGORIES OF RECORDS IN THE SYSTEM:

Educational, professional and demographic characteristics of doctorate degree holders including name, age, race, ethnicity, gender, functional limitations, educational history, professional activities and achievements, employer characteristics, professional and personal life balance, mentoring training, research opportunities, and career paths and plans of early career doctorate holders.

RECORD SOURCE CATEGORIES:

Information is obtained voluntarily from the individual.

ROUTINE USES OF RECORDS MAINTAINED IN THE SYSTEM, INCLUDING CATEGORIES OF USERS AND THE PURPOSES OF SUCH USES:

NSF standard routine uses apply to the extent that such disclosure is compatible with the National Science Foundation Act of 1950, the America COMPETES Reauthorization Act of 2010, and CIPSEA. In addition, information may be disclosed to:

(1) License for the Use of Restricted Data (License) holders. Organizations (e.g. academic institutions, nonprofit organizations) and their researcher(s) granted an NSF/National Center for Science and Engineering Statistics (NCSES) License for the purpose of analyzing data and preparing scientific reports and articles. These Licensees receive data without direct personal identifiers.

(2) Federal agency sponsors. Records without personal identifiers may be disclosed to federal sponsors, their contractors and collaborating researchers and their staff under an Inter-Agency Agreement for the purpose of analyzing data, preparing scientific reports and articles, and for conducting review and evaluation of their programs.

(3) NCSES contractors. Records may be disclosed to NCSES contractors for statistical activities or purposes such as conducting surveys. Any NSF contractor who wishes to use restricted-use data for statistical activities or purposes that are not part of NCSES-sponsored work must follow the regular License procedures as laid out in routine use (1) above.

POLICIES AND PRACTICES FOR STORAGE OF RECORDS:

Records are stored on electronic digital media.

POLICIES and PRACTICES FOR RETRIEVABILITY OF RECORDS:

Records are retrieved by the name of individual and unique, anonymous data collection identifier.

POLICIES AND PRACTICES FOR RETENTION AND DISPOSAL OF RECORDS:

Data are cumulative and are kept indefinitely.

PHYSICAL, PROCEDURAL, AND ADMINISTRATIVE SAFEGUARDS:

Records are protected by administrative, technical, and physical safeguards administered by NSF.

SYSTEM MANAGER(S):

Division Director, National Center for Science and Engineering Statistics, NSF headquarters, Virginia.

RECORD ACCESS PROCEDURES:

This system is exempt from this requirement pursuant to 5 U.S.C. 552a(k)(4).

CONTESTING RECORD PROCEDURES:

This system is exempt from this requirement pursuant to 5 U.S.C. 552a(k)(4).

NOTIFICATION PROCEDURE:

This system is exempt from this requirement pursuant to 5 U.S.C. 552a(k)(4).

EXEMPTIONS PROMULGATED FOR THE SYSTEM:

The portions of this system consisting of statistical records have been exempted from provisions of 5 U.S.C. 552a(c)(3); (d); (e)(1); (e)(4)(G), (H), (I), and (f), pursuant to 5 U.S.C. 552a(k)(4).

[FR Doc. 2016-13452 Filed 6-9-16; 8:45 am]

BILLING CODE 7555-01-M